DEPARTMENT OF COMMERCE

International Trade Administration

[A-557-805]

Extruded Rubber Thread From Malaysia; Notice of Court Decision and Suspension of Liquidation

AGENCY: Import Administration, International Trade Administration, Department of Commerce.

SUMMARY: On August 9, 2001, in Heveafil Sdn. Bhd. and Filati Lastex Sdn. Bhd. v. United States, Court No. 98-04-00908, Slip. Op. 01-97 (CIT), a lawsuit challenging the Department of Commerce's (the Department's) final results of administrative review of the antidumping order on extruded rubber thread from Malaysia, the Court of International Trade (CIT) affirmed the Department's remand determination and entered a judgment order. In its remand determination, the Department annulled all findings and conclusions made pursuant to the duty-absorption inquiry conducted for Heveafil Sdn. Bhd. (Heveafil) and Filati Lastex Sdn. Bhd. (Filati). As a result of the remand determination, the final antidumping duty rates for Heveafil and Filati were unchanged. However, the Court's decision was not in harmony with the Department's original final results. Consistent with the decision of the U.S. Court of Appeals for the Federal Circuit in Timken Co. v. United States, 893 F.2d 337 (Fed. Cir. 1990) (“Timken”), the Department will continue to order the suspension of liquidation of the subject merchandise until there is a “conclusive” decision in this case. If the case is not appealed, or if it is affirmed on appeal, the Department will instruct the Customs Service (Customs) to liquidate Heveafil's and Filati's entries of subject merchandise consistent with the Department's determination concerning the October 1, 1995, to September 30, 1996, period of review (POR).

EFFECTIVE DATE: September 10, 2001.

FOR FURTHER INFORMATION CONTACT: Irina Itkin, AD/CVD Enforcement Group I, Office II, Import Administration, International Trade Administration, U.S. Department of Commerce, 14th Street and Constitution Avenue, NW., Washington, DC 20230; telephone: (202) 482-0656.

SUPPLEMENTARY INFORMATION:

Background

The Department published the notice of its final results of the administrative review of the antidumping order on extruded rubber thread, on March 16, 1998. See Extruded Rubber Thread from Malaysia; Final Results of Antidumping Duty Administrative Review, 63 FR 312752 (March 16, 1998) (Thread Final Results).

Following publication of Thread Final Results, Heveafil and Filati, respondents in this case, filed a lawsuit with the CIT challenging the Department's determination on eleven issues. On February 27, 2001, the CIT issued a remand with respect to one issue and affirmed the Department on all other issues. Specifically, the Court remanded the case to the Department to annul all findings and conclusions made pursuant to the duty-absorption inquiry for Thread Final Results because it held that the Department lacked statutory authority under section 751(a)(4) of the Tariff Act of 1930, as amended, to conduct such an inquiry for Heveafil and Filati. See Heveafil Sdn. Bhd. and Filati Lastex Sdn. Bhd. v. United States, Court No. 98-04-00908, Slip. Op. 01-22, at page 16 (CIT February 27, 2001).

On March 6, 2001, the Department issued its Final Results of Redetermination, in which it annulled all findings and conclusions made pursuant to the duty-absorption inquiry conducted in the subject review with respect to Heveafil and Filati. As a result of the remand determination, the final antidumping duty rates for Heveafil and Filati were unchanged.

The CIT affirmed the Department's Final Results of Redetermination on August 9, 2001.See Heveafil Sdn. Bhd. and Filati Lastex Sdn. Bhd. v. the United States, Court No. 98-04-00908, Slip. Op. 01-97 (CIT).

Suspension of Liquidation

The U.S. Court of Appeals for the Federal Circuit in Timken held that the Department must publish notice of a decision of the CIT or the Federal Circuit which is not “in harmony” with the Department's final determination. Publication of this notice fulfills that obligation. The Federal Circuit also held that the Department must suspend liquidation of the subject merchandise until there is a “conclusive” decision in the case. Therefore, pursuant to Timken, the Department will continue to suspend liquidation pending the expiration of the period to appeal the CIT's August 9, 2001 decision or, if that decision is appealed, pending a final decision by the Federal Circuit. The Department will instruct Customs to liquidate Heveafil's and Filati's entries of subject merchandise during the POR, effective October 8, 2001, in the event that the CIT's ruling is not appealed.

Dated: August 31, 2001.
Bernard T. Carreau,
Acting Assistant Secretary for Import Administration.

[FR Doc. 01-22651 Filed 9-7-01; 8:45 am]

BILLING CODE 3510-DS-P